DEPARTMENT OF THE INTERIOR

Fish and Wildlife Service

50 CFR Part 17

Endangered and Threatened Wildlife and Plants; 90-Day Finding on a Petition To List a Karst Meshweaver, Cicurina cueva, as an Endangered Species

AGENCY: Fish and Wildlife Service, Interior.

ACTION: Notice of reopening of public comment period.

SUMMARY: We, the U.S. Fish and Wildlife Service (Service), announce the reopening of the public comment period for the status review initiated by the 90-day finding on a petition to list Cicurina cueva as an endangered species. This action will allow all interested parties an opportunity to provide information on the status of the species under the Endangered Species Act of 1973, as amended (Act).

DATES: Comments must be submitted directly to the Service (see ADDRESSES section) on or before August 30, 2005. Any comments received after the closing date may not be considered in the 12-month finding for this petition.

ADDRESSES: If you wish to comment, you may submit your comments and materials by any one of the following methods:

1. You may submit written comments and information by mail or hand-delivery to Robert Pine, Field Supervisor, Austin Ecological Services Field Office, 10711 Burnet Road, Suite 200, Austin, Texas 78758.

2. Written comments may be sent by facsimile to 512/490-0974.

3. You may send your comments by electronic mail (e-mail) to cicurinacomments@fws.gov.

All comments and materials received, as well as supporting documentation used in preparation of the 90-day finding, will be available for public inspection, by appointment, during normal business hours at our Austin Ecological Services Field Office at the above address.

FOR FURTHER INFORMATION CONTACT: Robert Pine, Field Supervisor, Austin Ecological Services Office (telephone 512/490-0057, facsimile 512/490-0974).

SUPPLEMENTARY INFORMATION:

Background

Section 4(b)(3)(B) of the Act (16 U.S.C. 1531 et. seq.) requires that for any petition to revise the List of Threatened or Endangered Wildlife and Plant Species that contains substantial scientific and commercial information that listing may be warranted, we make a finding within 12 months of the date of the receipt of the petition on whether the petitioned action is (a) not warranted, (b) warranted, or (c) warranted but the immediate proposal of a regulation is precluded by other pending proposals to determine whether any species is threatened or endangered.

On July 8, 2003, we received a petition requesting that we list Cicurina cueva (no common name) as an endangered species with critical habitat. On May 25, 2004, Save Our Springs Alliance (SOSA) filed a complaint against the Secretary of the Interior and the Service for failure to make a 90-day petition finding under section 4 of the Act for Cicurina cueva. In our response to Plaintiff's motion for summary judgment on October 15, 2004, we informed the court that we believed that we could complete a 90-day finding by January 20, 2005, and if we determined that the 90-day finding provided substantial information indicating that listing may be warranted, we could make a 12-month finding by December 8, 2005. On March 18, 2005, the District Court for the Western District of Texas, Austin Division, adopted our schedule and ordered the Service to issue a 12-month finding on or before December 8, 2005.

On February 1, 2005, we published our 90-day finding on the petition to list Cicurina cueva as an endangered species (70 FR 5123). Our 90-day finding stated that we found the petition presented substantial scientific and commercial information indicating that listing Cicurina cueva may be warranted. Threrefore, we initiated a status review to determine if listing the species is warranted. The original comment period for providing information for our status review closed on May 15, 2005.

Pursuant to 50 CFR 424.16(c)(2), we may extend or reopen a comment period upon finding that there is good cause to do so. We are currently gathering information that will be used in making a determination whether Cicurina cueva should be listed as endangered. We reopened the comment period from May 23 to June 22, 2005 (70 FR 29471), as additional information from a genetic analysis and additional survey work for Cicurina species in southern Travis County became available near the end of the original comment period. We were also expecting a biological evaluation from the Texas Department of Transportation (TxDOT) on (SH) State Highway 45 South that will evaluate biological effects of proposed highway construction and how they will avoid or minimize any negative effects to Flint Ridge Cave. In addition, we were expecting a draft Candidate Conservation Agreement with Assurances (CCAA) and enhanced management plan for Cave X from the Regents School of Austin. These documents are in progress, and it is our understanding that they were almost complete by the June 22, 2005, deadline.

With this document, we are reopening the public comment period on the 90-day finding and initiation of status review to complete and make available the results of our peer review on the report titled, “Genetic and morphological analysis of species limits in Cicurina spiders (Araneae, Dictynidae) from southern Travis and northern Hays counties, with emphasis on Cicurina cueva Gertsch and relatives” and to receive additional information that was in progress and almost complete at the time the last comment period closed including, but not limited to, TxDOT's biological evaluation of SH 45, the Regents School's draft CCAA and enhanced management plan, information from the City of Austin, and possibly information from a number of other parties who requested an extension of the comment period. This document and the results of the peer review are available to the public by contacting the Austin Ecological Services Office (see ADDRESSES section above). We believe these documents may contain significant information that may affect our determination of the species' status and allowing the comment period to expire before they are available could result in hurried and incomplete comments. We deem these considerations as sufficient cause to reopen the comment period. This reopening of the comment period will not result in an extension of the court-ordered date by which the Service must make its 12-month finding.

Public Comments Solicited

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety.

Authority: The authority for this action is the Endangered Species Act of 1973, as amended (16 U.S.C. 1531 et seq.).

Dated: August 2, 2005.
Marshall P. Jones, Jr.,
Acting Director, Fish and Wildlife Service.

[FR Doc. 05-16150 Filed 8-15-05; 8:45 am]

BILLING CODE 4310-55-P